CIVIL RIGHTS COLD CASE RECORDS REVIEW BOARD

[Agency Docket Number: CRCCRRB-2025-0014-N]

Notice of Formal Determination on Records Release

AGENCY: Civil Rights Cold Case Records Review Board.

ACTION: Notice.

SUMMARY: The Civil Rights Cold Case Records Review Board received 425 pages of records from the National Archives and Records Administration (NARA), the Department of Justice, and the Federal Bureau of Investigation (FBI) related to a civil rights cold case incident to which the Review Board assigned the unique identifier 2024-003-016. NARA did not propose any postponements of disclosure. The Department of Justice and the FBI proposed 423 postponements of disclosure. The FBI later withdrew 32 of those postponements. On May 2, 2025, the Review Board approved 120 postponements and portions of 13 additional postponements, and determined that 399 pages in full and 26 pages in part should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2024-003-016 | 2024-DOJ-03-0260 through 2024-DOJ-03-0333 | Reject.
2024-003-016 | 2024-DOJ-03-0334 | Approve.
2024-003-016 | 2024-DOJ-03-0335 through 2024-DOJ-03-0343 | Reject.
2024-003-016 | 2024-DOJ-03-0344 | Approve.
2024-003-016 | 2024-DOJ-03-0345 through 2024-DOJ-03-0366 | Reject.
2024-003-016 | 2024-DOJ-03-0367 | Approve with changes.
2024-003-016 | 2024-DOJ-03-0368 | Approve.
2024-003-016 | 2024-DOJ-03-0369 through 2024-DOJ-03-0384 | Reject.
2024-003-016 | 2024-DOJ-03-0385 and 2024-DOJ-03-0386 | Approve.
2024-003-016 | 2024-DOJ-03-0387 through 2024-DOJ-03-0390 | Reject.
2024-003-016 | 2024-DOJ-03-0391 | Approve.
2024-003-016 | 2024-DOJ-03-0392 | Reject.
2024-003-016 | 2024-DOJ-03-0393 through 2024-DOJ-03-0395 | Approve.
2024-003-016 | 2024-DOJ-03-0396 and 2024-DOJ-03-0397 | Reject.
2024-003-016 | 2024-DOJ-03-0398 and 2024-DOJ-03-0399 | Approve.
2024-003-016 | 2024-DOJ-03-0400 | Reject.
2024-003-016 | 2024-DOJ-03-0401 through 2024-DOJ-03-0403 | Approve.
2024-003-016 | 2024-DOJ-03-0404 | Approve with changes.
2024-003-016 | 2024-DOJ-03-0405 through 2024-DOJ-03-0407 | Approve.
2024-003-016 | 2024-DOJ-03-0408 | Reject.
2024-003-016 | 2024-DOJ-03-0409 through 2024-DOJ-03-0411 | Approve.
2024-003-016 | 2024-DOJ-03-0412 through 2024-DOJ-03-0421 | Reject.
2024-003-016 | 2024-DOJ-03-0422 through 2024-DOJ-03-0426 | Approve.
2024-003-016 | 2024-DOJ-03-0427 through 2024-DOJ-03-0438 | Reject.
2024-003-016 | 2024-DOJ-03-0439 through 2024-DOJ-03-0442 | Approve.
2024-003-016 | 2024-DOJ-03-0443 through 2024-DOJ-03-0464 | Reject.
2024-003-016 | 2024-DOJ-03-0465 | Approve.
2024-003-016 | 2024-DOJ-03-0466 through 2024-DOJ-03-0476 | Reject.
2024-003-016 | 2024-DOJ-03-0477 | Approve.
2024-003-016 | 2024-DOJ-03-0478 | Reject.
2024-003-016 | 2024-FBI-03-0422 and 2024-FBI-03-0423 | Reject.
2024-003-016 | 2024-FBI-03-0424 and 2024-FBI-03-0425 | Approve.
2024-003-016 | 2024-FBI-03-0426 and 2024-FBI-03-0427 | Reject.
2024-003-016 | 2024-FBI-03-0428 through 2024-FBI-03-0431 | Approve.
2024-003-016 | 2024-FBI-03-0432 | Approve with changes.
2024-003-016 | 2024-FBI-03-0433 through 2024-FBI-03-0448 | Approve.
2024-003-016 | 2024-FBI-03-0449 | Reject.
2024-003-016 | 2024-FBI-03-0450 | Approve.
2024-003-016 | 2024-FBI-03-0451 | Approve with changes.
2024-003-016 | 2024-FBI-03-0452 through 2024-FBI-03-0454 | Approve.
2024-003-016 | 2024-FBI-03-0455 | Approve with changes.
2024-003-016 | 2024-FBI-03-0456 | Approve.
2024-003-016 | 2024-FBI-03-0457 through 2024-FBI-03-0459 | Approve with changes.
2024-003-016 | 2024-FBI-03-0460 | Approve.
2024-003-016 | 2024-FBI-03-0461 | Approve with changes.
2024-003-016 | 2024-FBI-03-0462 through 2024-FBI-03-0464 | Approve.
2024-003-016 | 2024-FBI-03-0465 through 2024-FBI-03-0469 | Reject.
2024-003-016 | 2024-FBI-03-0470 | Approve.
2024-003-016 | 2024-FBI-03-0471 through 2024-FBI-03-0473 | Reject.
2024-003-016 | 2024-FBI-03-0474 through 2024-FBI-03-0488 | Approve.
2024-003-016 | 2024-FBI-03-0489 | Reject.
2024-003-016 | 2024-FBI-03-0490 | Approve.
2024-003-016 | 2024-FBI-03-0491 | Approve with changes.
2024-003-016 | 2024-FBI-03-0492 through 2024-FBI-03-0503 | Reject.
2024-003-016 | 2024-FBI-03-0504 | Approve.
2024-003-016 | 2024-FBI-03-0505 through 2024-FBI-03-0509 | Reject.
2024-003-016 | 2024-FBI-03-0510 and 2024-FBI-03-0511 | Approve.
2024-003-016 | 2024-FBI-03-0512 through 2024-FBI-03-0521 | Withdrawn by agency.
2024-003-016 | 2024-FBI-03-0522 and 2024-FBI-03-0523 | Reject.
2024-003-016 | 2024-FBI-03-0524 through 2024-FBI-03-0527 | Withdrawn by agency.
2024-003-016 | 2024-FBI-03-0528 | Reject.
2024-003-016 | 2024-FBI-03-0529 through 2024-FBI-03-0532 | Withdrawn by agency.
2024-003-016 | 2024-FBI-03-0533 | Reject.
2024-003-016 | 2024-FBI-03-0534 | Withdrawn by agency.
2024-003-016 | 2024-FBI-03-0535 and 2024-FBI-03-0536 | Approve.
2024-003-016 | 2024-FBI-03-0537 | Reject.
2024-003-016 | 2024-FBI-03-0538 and 2024-FBI-03-0539 | Withdrawn by agency.
2024-003-016 | 2024-FBI-03-0540 | Reject.
2024-003-016 | 2024-FBI-03-0541 through 2024-FBI-03-0544 | Withdrawn by agency.
2024-003-016 | 2024-FBI-03-0545 | Reject.
2024-003-016 | 2024-FBI-03-0546 | Withdrawn by agency.
2024-003-016 | 2024-FBI-03-0547 and 2024-FBI-03-0548 | Approve.
2024-003-016 | 2024-FBI-03-0549 | Reject.
2024-003-016 | 2024-FBI-03-0550 and 2024-FBI-03-0551 | Withdrawn by agency.
2024-003-016 | 2024-FBI-03-0552 through 2024-FBI-03-0557 | Reject.
2024-003-016 | 2024-FBI-03-0558 | Approve.
2024-003-016 | 2024-FBI-03-0559 | Withdrawn by agency.
2024-003-016 | 2024-FBI-03-0560 through 2024-FBI-03-0562 | Reject.
2024-003-016 | 2024-FBI-03-0563 through 2024-FBI-03-0577 | Approve.
2024-003-016 | 2024-FBI-03-0578 | Reject.
2024-003-016 | 2024-FBI-03-0579 | Approve with changes.
2024-003-016 | 2024-FBI-03-0580 | Approve.
2024-003-016 | 2024-FBI-03-0581 through 2024-FBI-03-0593 | Reject.
2024-003-016 | 2024-FBI-03-0594 | Withdrawn by agency.
2024-003-016 | 2024-FBI-03-0595 through 2024-FBI-03-0599 | Approve.
2024-003-016 | 2024-FBI-03-0600 | Reject.
2024-003-016 | 2024-FBI-03-0601 through 2024-FBI-03-0603 | Approve.
2024-003-016 | 2024-FBI-03-0604 and 2024-FBI-03-0605 | Reject.
2024-003-016 | 2024-FBI-03-0606 and 2024-FBI-03-0607 | Approve.
2024-003-016 | 2024-FBI-03-0608 | Approve with changes.
2024-003-016 | 2024-FBI-03-0609 through 2024-FBI-03-0611 | Approve.
2024-003-016 | 2024-FBI-03-0612 and 2024-FBI-03-0613 | Reject.
2024-003-016 | 2024-FBI-03-0614 | Approve.
2024-003-016 | 2024-FBI-03-0615 | Withdrawn by agency.
2024-003-016 | 2024-FBI-03-0616 and 2024-FBI-03-0617 | Approve.
2024-003-016 | 2024-FBI-03-0618 | Withdrawn by agency.
2024-003-016 | 2024-FBI-03-0619 | Reject.
2024-003-016 | 2024-FBI-03-0620 | Approve with changes.
2024-003-016 | 2024-FBI-03-0621 through 2024-FBI-03-0623 | Approve.
2024-003-016 | 2024-FBI-03-0624 | Reject.
2024-003-016 | 2024-FBI-03-0625 | Approve.

Authority: Pub. L. 115-426, 132 Stat. 5489 (44 U.S.C. 2107).

Dated: May 7, 2025.
Stephannie Oriabure,
Chief of Staff.

[FR Doc. 2025-08287 Filed 5-9-25; 8:45 am]

BILLING CODE 6820-SY-P